ENVIRONMENTAL PROTECTION AGENCY

[FRL-8004-4]

Air Quality Management Subcommittee to the Clean Air Act Advisory Committee (CAAAC); Notice of Meeting

Summary: The Environmental Protection Agency (EPA) established the CAAAC on November 19, 1990, to provide independent advice and counsel to EPA on policy issues associated with implementation of the Clean Air Act of 1990. The Committee advises on economic, environmental, technical, scientific, and enforcement policy issues.

Open Meeting Notice: Pursuant to 5 U.S.C. App. 2 Section 10(a)(2), notice is hereby given that the Air Quality Management subcommittee to the CAAAC will hold its next open meeting on Monday, December 12, 2005, from approximately 2 p.m. to 3:30 p.m. via telephone conferencing. Any member of the public who wishes to submit written comments, or who wants further information concerning this meeting, should follow the procedures outlined in the section below titled “Providing Written Comments at this Meeting”. Participation in the teleconference will be limited and available on a first-come, first-served basis. Because of the limitations of the teleconferencing system, members of the public wishing to attend this meeting must contact Ms. Debbie Stackhouse, Office of Air and Radiation, U.S. EPA (919) 541-5354, or by mail at U.S. EPA, Office of Air Quality Planning and Standards (Mail Code C 404-04), 109 T.W. Alexander Drive, Research Triangle Park, NC 27711, or by email at: stackhouse.debbie@epa.gov by noon Eastern Time on December 7, 2005, to obtain the conference phone number.

Inspection of Committee Documents: The subcommittee agenda and any documents prepared for the meeting will be sent to participants via e-mail prior to the start of the meeting. Thereafter, these documents, together with the meeting minutes, will be available by contacting the Office of Air and Radiation Docket and requesting information under docket OAR-2004-0075. The Docket office can be reached by telephoning (202) 260-7548; FAX (202) 260-4400.

FOR FURTHER INFORMATION CONTACT: For further information concerning the Air Quality Management subcommittee to the CAAAC , please contact Mr. Jeffrey Whitlow, Office of Air and Radiation, U.S. EPA (919) 541-5523, FAX (919) 685-3307 or by mail at U.S. EPA, Office of Air Quality Planning and Standards (Mail Code C 439-04), 109 T.W. Alexander Drive, Research Triangle Park, NC 27711, or e-mail at: whitlow.jeff@epa.gov. Additional Information about the CAAAC and its subcommittees can be found on the CAAAC Web site: http://www.epa.gov/air/caaac.

Providing Written Comments at This Meeting: It is the policy of the subcommittee to accept written public comments of any length, and to accommodate oral public comments whenever possible. Due to the brief nature of this meeting, the subcommittee will only accept written comments. The subcommittee expects that statements submitted for this meeting will not be repetitive of previously-submitted oral or written statements. Although the subcommittee accepts written comments until the date of the meeting (unless otherwise stated), written comments should be received by Mr. Whitlow no later than noon Eastern Time five business days prior to the meeting so that the comments may be made available to the subcommittee members for their consideration. Comments should be supplied to Mr. Whitlow (preferably via e-mail) at the address/contact information noted above, as follows: one hard copy with original signature or one electronic copy via e-mail (acceptable file format: Adobe Acrobat PDF, WordPerfect, MS Word, MS PowerPoint, or Rich Text files).

Dated: November 22, 2005.
Gregory A. Green,
Deputy Director, Office of Air Quality Planning and Standards.

[FR Doc. E5-6723 Filed 11-30-05; 8:45 am]

BILLING CODE 6560-50-P